NATIONAL SCIENCE FOUNDATION

National Science Board; Nominations for Membership

The National Science Board (NSB) is the policymaking body of the National Science Foundation (NSF). The Board consists of 24 members appointed by the President, with the advice and consent of the Senate, for six-year terms, in addition to the NSF Director ex officio.

Section 4(c) of the National Science Foundation Act of 1950, as amended, states that: “The persons nominated for appointment as members of the Board: (1) Shall be eminent in the fields of the basic, medical, or social sciences, engineering, agriculture, education, research management, or public affairs; (2) shall be selected solely on the basis of established records of distinguished service; and (3) shall be so selected as to provide representation of the views of scientific and engineering leaders in all areas of the Nation.”

The Board and the NSF Director solicit and evaluate nominations for submission to the President. Nominations accompanied by biographical information may be forwarded to the Chairman, National Science Board, 4201 Wilson Boulevard, Arlington, VA 22230, no later than April 28, 2000.

Any questions should be directed to Mrs. Susan E. Fannoney, Staff Assistant, National Science Board Office (703/306-2000).

Dated: March 30, 2000.
Karen J. York,
Committee Management Officer.

[FR Doc. 00-8257 Filed 4-3-00; 8:45 am]

BILLING CODE 7555-01-M